DEPARTMENT OF VETERANS AFFAIRS

Veterans' Advisory Committee on Rehabilitation, Notice of Meeting

The Department of Veterans Affairs (VA) gives notice under the Federal Advisory Committee Act, 5 U.S.C. App. 2, that a meeting of the Veterans' Advisory Committee on Rehabilitation (VACOR) will be held on April 27, 2015, via teleconference. The meeting will last from 2:30 p.m. (EST) until 5:00 p.m. (EST). To join the meeting, dial 1-800-767-1750 with a participant code of 25743#.

The purpose of the Committee is to provide advice to the Secretary on the rehabilitation needs of Veterans with disabilities and on the administration of VA's rehabilitation programs.

During the meeting, Committee members will review recommendations and discuss best practices. The primary agenda topics will be to discuss future plans for VACOR.

No time will be allocated at this meeting for oral presentations from the public. However, the entirety of the meeting is open to the public. Interested parties should provide written comments for review by the Committee to Marisa Liuzzi, Designated Federal Officer, Veterans Benefits Administration (28), 810 Vermont Avenue NW., Washington, DC 20420, or via email at marisa.liuzzi@va.gov. In the communication, writers must identify themselves and state the organization, association or person(s) they represent. Individuals who wish to call in to the meeting should RSVP to Marisa Liuzzi at (202) 461-9600, no later than close of business, April 20, 2015.

Dated: April 8, 2015.
Rebecca Schiller,
Committee Management Officer.

[FR Doc. 2015-08365 Filed 4-10-15; 8:45 am]

BILLING CODE 8320-01-P